DEPARTMENT OF EDUCATION

[CFDA No. 84.304A]

Office of Safe and Drug-Free Schools—Cooperative Civic Education and Economic Education Exchange Program; Notice Inviting Applications for New Awards for Fiscal Year (FY) 2003

Purpose of Program: The Cooperative Civic Education and Economic Education Exchange Program provides grants to improve the quality of civic education through cooperative civic education exchange programs with emerging democracies.

For FY 2003 the competition for new awards focuses on statutory requirements we describe in the Statutory Requirements section of this notice.

Eligible Applicants: Organizations in the United States experienced in the development of curricula and programs in civics and government education and economic education for students in elementary schools and secondary schools in countries other than the United States, to carry out civic education activities.

Applications Available: May 23, 2003.

Deadline for Transmittal of Applications: July 7, 2003.

Deadline for Intergovernmental Review: 60 days from transmittal deadline.

Estimated Available Funds: $2,007,618.

Estimated Range of Awards: $2,007,618

Estimated Average Size of Awards: $2,007,618.

Maximum Award: We will reject any application that proposes a budget exceeding $2,007,618 for a single budget period of up to 24 months.

Estimated Number of Awards: 1.

Note: The Department is not bound by any estimates in this notice.

Project Period: Up to 24 months.

Applicable Regulations and Statute: (a) The Education Department General Administrative Regulations (EDGAR) in 34 CFR parts 74, 75, 77, 79, 80, 81, 82, 85, 86 (only as it applies to institutions of higher education), 97, 98, and 99. (b) Education for Democracy Act, sections 2341-2346 of the Elementary and Secondary Education Act as amended, 20 U.S.C. 6711-6716.

Statutory Requirements: We will award grants to eligible applicants to—

(1) Provide to the participants from eligible countries—

(A) Seminars on the basic principles of United States constitutional democracy, including seminars on the major governmental institutions and systems in the United States, and visits to such institutions;

(B) Visits to school systems, institutions of higher education, and nonprofit organizations conducting exemplary programs in civics and government education in the United States;

(C) Translations and adaptations with respect to United States civics and government education curricular programs for students and teachers, and in the case of training programs for teachers, translations and adaptations into forms useful in school in eligible countries, and joint research projects in such areas; and

(D) Independent research and evaluation assistance to determine the effects of the cooperative education exchange programs on students' development of the knowledge, skills, and traits of character essential for the preservation and improvement of constitutional democracy.

(2) Provide to the participants from the United States—

(A) Seminars on the histories and systems of government of eligible countries;

(B) Visits to school systems, institutions of higher education, and organizations conducting exemplary programs in civics and government education located in eligible countries;

(C) Assistance from educators and scholars in eligible countries in the development of curricular materials on the histories and governments of such countries that are useful in United States classrooms;

(D) Opportunities to provide onsite demonstrations of United States curricula and pedagogy for educational leaders in eligible countries; and

(E) Independent research and evaluation assistance to determine the effects of the Cooperative Education Exchange Program assisted under this section on students' development of the knowledge, skills, and traits of character essential for the preservation and improvement of constitutional democracy.

(3) Assist participants from eligible countries and the United States to participate in international conferences on civics and government education for educational leaders, teacher trainers, scholars in related disciplines, and educational policymakers.

Primary Participants

The primary participants in the Cooperative Education Exchange Program assisted under this section shall be leaders in the areas of civics and government education, including teachers, curriculum and teacher training specialists, scholars in relevant disciplines, educational policymakers, and government and private sector leaders from the United States and eligible countries.

Definition: For the purpose of this competition, the term eligible country means a Central European country, an Eastern European country, Lithuania, Latvia, Estonia, the independent states of the former Soviet Union as defined in section 3 of the FREEDOM Support Act (22 U.S.C. 5801), the Republic of Ireland, the province of Northern Ireland in the United Kingdom, and any developing country (as such term is defined in section 209(d) of the Education for the Deaf Act) if the Secretary, with concurrence of the Secretary of State, determines that such developing country has a democratic form of government. A list of countries is included in the application package.

Election Criteria

We use the following criteria to evaluate applications for new grant awards under this competition. The maximum score for all of these criteria is 100 points. The maximum score of each criterion or factor under the criterion is indicated in parentheses.

(1) Significance. (15 points)

In determining the significance of the proposed project, the following factors are considered:

(a) The national significance of the proposed project.

(b) The potential contribution of the proposed project to increased knowledge or understanding of educational problems, issues or effective strategies.

(c) The extent to which the proposed project involves the development or demonstration of promising new strategies that build on, or are alternatives to, existing strategies.

(d) The importance or magnitude of the results or outcomes likely to be attained by the proposed project especially improvements in teaching and student achievement.

(2) Quality of the project design. (25 points)

In determining the quality of the design of the proposed project, the following factors are considered:

(a) The extent to which the goals, objectives, and outcomes to be achieved by the proposed project are clearly specified and measurable.

(b) The extent to which the design of the proposed project includes a thorough, high-quality review of the relevant literature, a high-quality plan for project implementation, and the use of appropriate methodological tools to ensure successful achievement of project activities.

(c) The extent to which the proposed project represents an exceptional approach for meeting statutory purposes and requirements.

(3) Quality of project services. (30 points)

In determining the quality of the services to be provided by the proposed project, the quality and sufficiency of strategies for ensuring equal access and treated for eligible project participants who are members of groups that have traditionally been underrepresented based on race, color, national origin, gender, age, or disability is considered. In addition, the following factors are considered:

(a) The extent to which the services to be provided by the proposed project are appropriate to the needs of the intended recipients or beneficiaries of those services.

(b) The extent to which the services to be provided by the proposed project reflect up-to-date knowledge from research and effective practice.

(c) The extent to which the training or professional development services to be provided by the proposed project are of sufficient quality, intensity, and duration to lead to improvements in practice among the recipients of those services.

(d) The extent to which the services to be provided by the proposed project involve the collaboration of appropriate partners for maximizing the effectiveness of project services.

(4) Quality of project personnel. (15 points)

In determining the quality of project personnel, the following factors are considered:

(a) The extent to which the applicant encourages applications for employment from persons who are members of groups that have traditionally been underrepresented based on race, color, national origin, gender, age, or disability.

(b) The qualifications, including relevant training and experience, of the project director or principal investigator.

(c) The qualifications, including relevant training and experience, of key project personnel.

(d) The qualifications, including relevant training and experience, of project consultants or subcontractors.

(5) Adequacy of resources. (5 points)

In determining the adequacy of resources for the proposed project, the following factors are considered:

(a) The adequacy of support, including facilities, equipment, supplies, and other resources, from the applicant organization.

(b) The extent to which the budget is adequate to support the proposed project.

(6) Quality of the project evaluation. (10 points)

In determining the quality of the evaluation, the following factors are considered:

(a) The extent to which the methods of evaluation, are thorough, feasible, and appropriate to the goals, objectives, and outcomes of the proposed project.

(b) The extent to which the methods of evaluation will provide performance feedback and permit periodic assessment of progress toward achieving intended outcomes.

For Applications and Further Information Contact: Rita Foy Moss, U.S. Department of Education, 555 New Jersey Avenue, NW., Room 513c, Washington, DC 20208-5573.Telephone: (202) 219-2027 or via Inernet rita.foy@ed.gov.

If you use a telecommunications device for the deaf (TTD), you may call 1-877-576-7734.

Individuals with disabilities may obtain this document or an application package in an alternative format (e.g., Braille, large print, audiotape, or computer diskette) on request to the program contact person listed at the beginning of this section. However, the Department is not able to reproduce in an alternative format the standard forms included in the application package.

Pilot Project for Electronic Submission of Applications

In FY 2003, the U.S. Department of Education is continuing to expand its pilot project of electronic submission of applications to include additional formula grant programs, as well as discretionary grant competitions. The Cooperative Civic Education and Economic Education Exchange Program is one of the programs included in the pilot project. If you are an applicant under this grant competition, you may submit your application to us in either electronic or paper format.

The pilot project involves the use of the Electronic Grant Application System (e-APPLICATION, formerly e-GAPS) portion of the Grant Administration and Payment System (GAPS). We invite your participation in this pilot project. We will continue to evaluate its success and solicit suggestions for improvement.

If you participate in this e-APPLICATION pilot, please note the following:

• Your participation is voluntary.

• You will not receive any additional point value or penalty because you submit a grant application in electronic or paper format.

• You can submit all documents electronically, including the Application for Federal Assistance (ED Form 424), Budget Information—Non-Construction Programs, (ED Form 524), and all necessary assurances and certifications.

• Within three working days of submitting your electronic application, fax a signed copy of the Application for Federal Assistance (ED Form 424) to the Application Control Center following these steps:

1. Printed ED Form 424 from the e-APPLICATION system.

2. Make sure that the applicant's Authorizing Representative signs this form.

3. Before faxing this form, submit your electronic application via the e-APPLICATION system. You will receive automatic acknowledgement, which will include a PR/Award number an identifying number unique to your application).

4. Place the PR/Award number in the upper right corner of ED Form 424.

5. Fax ED Form 424 to the Application Control Center within three business days of submitting your electronic application at (202) 260-1349.

6. We may request that you give us original signatures on all other forms at a later date.

7. Closing Date Extension in the Case of System Unavailability: If you elect to participate in the e-Application pilot for the Cooperative Civic Education and Economic Education Exchange Program and you are prevented from submitting your application on the closing date because the e-Application system is unavailable, we will grant you an extension of one business day in order to transmit your application via e-Application, by mail, or by hand delivery. For use to grant this extension:

(1) You must be a registered user of e-Applications, and have initiated an e-Application for this competition; and

(2)(a) The e-Application system must be unavailable for 60 minutes or more between the hours of 8:30 a.m. and 3:30 p.m. (ET), on the deadline date; or

(b) The e-Application system must be unavailable for any period of time during the last hour of operation (that is, for any period of time between 3:30 p.m. and 4:30 p.m. (ET)) on the deadline date. The Department must acknowledge and confirm the period of unavailability before granting you an extension. To request this extension you must contact Rita Foy Moss by e-mail at Rita.Foy@ed.gov or by telephone at (202) 219-2077 or the e-Grants help desk at (888) 336-8930.

You may access the electronic grant application for the Cooperative Civic Education and Economic Education Exchange Program at: http:/e-grants.ed.gov.

We have included additional information on the e-Application pilot project (see Parity Guidelines between Paper and Electronic Applications) in the application package.

If you want to apply for a grant and be considered for funding, you must meet the deadline requirements included in this notice.

Electronic Access to This Document

You may view this document, as well as all other Department of Education documents published in the Federal Register, in text or Adobe Portable Document Format (PDF) on the Internet at the following site: http://www.ed.gov/legislation/FedRegister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 6711-6716.

Dated: May 19, 2003.
Judge Eric Andell,
Deputy Under Secretary, Office of Safe and Drug-Free Schools.

[FR Doc. 03-13035 Filed 5-22-03; 8:45 am]

BILLING CODE 4000-01-M